DEPARTMENT OF AGRICULTURE

Grain Inspection, Packers and Stockyards Administration

Opportunity for Designation in Owensboro, KY; Bloomington, IL; Iowa Falls, IA; Casa Grande, AZ; Fargo, ND; Grand Forks, ND and Plainview, TX; Areas; Request for Comments on the Official Agencies Servicing These Areas

AGENCY: Grain Inspection, Packers and Stockyards Administration, USDA.

ACTION: Notice.

SUMMARY: The designations of the official agencies listed below will end on March 31, 2014. We are asking persons or governmental agencies interested in providing official services in the areas presently served by these agencies to submit an application for designation. In addition, we are asking for comments on the quality of services provided by the following designated agencies: J.W. Barton Grain Inspection Service, Inc. (Barton); Central Illinois Grain Inspection, Inc. (Central Illinois); Central Iowa Grain Inspection Corporation (Central Iowa); Farwell Commodity and Grain Services, Inc. (Farwell SW); North Dakota Grain Inspection Service, Inc. (North Dakota); Northern Plains Grain Inspection Service, Inc. (Northern Plains); and Plainview Grain Inspection and Weighing Service, Inc. (Plainview).

DATES: Applications and comments must be received by August 21, 2013.

ADDRESSES: Submit applications and comments concerning this notice using any of the following methods:

• Applying for Designation on the Internet: Use FGISOnline (https://fgis.gipsa.usda.gov/default_home_FGIS.aspx) and then click on the Delegations/Designations and Export Registrations (DDR) link. You will need to obtain an FGISOnline customer number and USDA eAuthentication username and password prior to applying.

• Submit Comments Using the Internet: Go to Regulations.gov (http://www.regulations.gov). Instructions for submitting and reading comments are detailed on the site.

• Mail, Courier or Hand Delivery: Eric J. Jabs, Chief, USDA, GIPSA, FGIS, QACD, QADB, 10383 North Ambassador Drive, Kansas City, MO 64153.

• Fax: Eric J. Jabs, 816-872-1257.

• Email: Eric.J.Jabs@usda.gov.

Read Applications and Comments: All applications and comments will be available for public inspection at the office above during regular business hours (7 CFR 1.27(c)).

FOR FURTHER INFORMATION CONTACT: Eric J. Jabs, 816-659-8408 or Eric.J.Jabs@usda.gov.

SUPPLEMENTARY INFORMATION: Section 79(f) of the United States Grain Standards Act (USGSA) authorizes the Secretary to designate a qualified applicant to provide official services in a specified area after determining that the applicant is better able than any other applicant to provide such official services (7 U.S.C. 79 (f)). Under section 79(g) of the USGSA, designations of official agencies are effective for three years unless terminated by the Secretary, but may be renewed according to the criteria and procedures prescribed in section 79(f) of the USGSA.

Areas Open for Designation:

Barton

Pursuant to Section 79(f)(2) of the United States Grain Standards Act, the following geographic area, in the States of Indiana, Kentucky, and Tennessee, is assigned to this official agency.

In Indiana

Clark, Crawford, Floyd, Harrison, Jackson, Jennings, Jefferson, Lawrence, Martin, Orange, Perry, Scott, Spencer, and Washington Counties.

In Kentucky

Bounded on the North by the northern Daviess, Hancock, Breckinridge, Meade, Hardin, Jefferson, Oldham, Trimble, and Carroll County lines; Bounded on the East by the eastern Carroll, Henry, Franklin, Scott, Fayette, Jessamine, Woodford, Anderson, Nelson, Larue, Hart, Barren, and Allen County lines; Bounded on the South by the southern Allen and Simpson County lines; and Bounded on the West by the western Simpson and Warren County lines; the southern Butler and Muhlenberg County lines; the Muhlenberg County line west to the Western Kentucky Parkway; the Western Kentucky Parkway west to State Route 109; State Route 109 north to State Route 814; State Route 814 north to U.S. Route Alternate 41; U.S. Route Alternate 41 north to the Webster County line; the northern Webster County line; the western McLean and Daviess County lines.

In Tennessee

Bounded on the North by the northern Tennessee State line from Sumner County east; Bounded on the East by the eastern Tennessee State line southwest; Bounded on the South by the southern Tennessee State line west to the western Giles County line; and Bounded on the West by the western Giles, Maury, and Williamson County lines North; the northern Williamson County line east; the western Rutherford, Wilson, and Sumner County lines north.

Central Illinois

Pursuant to Section 79(f)(2) of the United States Grain Standards Act, the following geographic area, in the State of Illinois, is assigned to this official agency.

In Illinois

Bounded on the North by State Route 18 east to U.S. Route 51; U.S. Route 51 south to State Route 17; State Route 17 east to Livingston County; the Livingston County line east to State Route 47; Bounded on the East by State Route 47 south to State Route 116; State Route 116 west to Pontiac, which intersects with a straight line running north and south through Arrowsmith to the southern McLean County line; Bounded on the South by the southern McLean County line; the eastern Logan County line south to State Route 10; State Route 10 west to the Logan County line; the western Logan County line; the southern Tazewell County line; and Bounded on the West by the western Tazewell County line; the western Peoria County line north to Interstate 74; Interstate 74 southeast to State Route 116; State Route 116 north to State Route 26; State Route 26 north to State Route 18.

The following grain elevator is not part of this geographic area assignment and is assigned to: Champaign-Danville Grain Inspection Departments, Inc.: East Lincoln Farmers Grain Co., Lincoln, Logan County, Illinois.

Central Iowa

Pursuant to Section 79(f)(2) of the United States Grain Standards Act, the following geographic area, in the State of Iowa, is assigned to this official agency.

In Iowa

Bounded on the North by U.S. Route 30 east to N44; N44 south to E53; E53 east to U.S. Route 30; U.S. Route 30 east to the Boone County line; the western Boone County line north to E18; E18 east to U.S. Route 169; U.S. Route 169 north to the Boone County line; the northern Boone County line; the western Hamilton County line north to U.S. Route 20; U.S. Route 20 east to R38; R38 north to the Hamilton County line; the northern Hamilton County line east to Interstate 35; Interstate 35 northeast to C55; C55 east to S41; S41 north to State Route 3; State Route 3 east to U.S. Route 65; U.S. Route 65 north to C25; C25 east to S56; S56 north to C23; C23 east to T47; T47 south to C33; C33 east to T64; T64 north to B60; B60 east to U.S. Route 218; U.S. Route 218 north to Chickasaw County; the western Chickasaw County line; and the western and northern Howard County lines. Bounded on the East by the eastern Howard and Chickasaw County lines; the eastern and southern Bremer County lines; V49 south to State Route 297; State Route 297 south to D38; D38 west to State Route 21; State Route 21 south to State Route 8; State Route 8 west to U.S. Route 63; U.S. Route 63 south to Interstate 80; Interstate 80 east to the Poweshiek County line; the eastern Poweshiek, Mahaska, Monroe, and Appanoose County lines; Bounded on the South by the southern Appanoose, Wayne, Decatur, Ringgold, and Taylor County lines; Bounded on the West by the western Taylor County line; the southern Montgomery County line west to State Route 48; State Route 48 north to M47; M47 north to the Montgomery County line; the northern Montgomery County line; the western Cass and Audubon County lines; the northern Audubon County line east to U.S. Route 71; U.S. Route 71 north to U.S. Route 30.

The following grain elevators are part of this geographic area assignment. In D.R. Schaal Agency's area: Agvantage F.S., Chapin, Franklin County and Five Star Coop, Rockwell, Cerro Gordo County, Iowa.

The following grain elevators are not part of this geographic area assignment and are assigned to: Sioux City Inspection and Weighing Service Company: West Central Coop, Boxholm, Boone County, Iowa; Omaha Grain Inspection Service, Inc.: Scoular Elevator, Elliot, Montgomery County and two Scoular elevators, Griswold, Cass County, Iowa.

Farwell SW

Pursuant to Section 79(f)(2) of the United States Grain Standards Act, the following geographic area, in the States of Arizona and California, is assigned to this official agency.

In Arizona

Maricopa, Pinal, Santa Cruz, and Yuma Counties.

In California

Imperial, Riverside, and San Diego Counties.

Farwell Southwest's assigned geographic area does not include the export port locations inside Farwell Southwest's area, which are serviced by GIPSA.

North Dakota

Pursuant to Section 79(f)(2) of the United States Grain Standards Act, the following geographic area, in the States of Illinois, Minnesota and North Dakota, is assigned to this official agency.

In Illinois

Bounded on the East by the eastern Cumberland County line; the eastern Jasper County line south to State Route 33; State Route 33 east-southeast to the Indiana-Illinois State line; the Indiana-Illinois State line south to the southern Gallatin County line; Bounded on the South by the southern Gallatin, Saline, and Williamson County lines; the southern Jackson County line west to U.S. Route 51; U.S. Route 51 north to State Route 13; State Route 13 northwest to State Route 149; State Route 149 west to State Route 3; State Route 3 northwest to State Route 51; State Route 51 south to the Mississippi River; and Bounded on the West by the Mississippi River north to the northern Calhoun County line; Bounded on the North by the northern and eastern Calhoun County lines; the northern and eastern Jersey County lines; the northern Madison County line; the western Montgomery County line north to a point on this line that intersects with a straight line, from the junction of State Route 111 and the northern Macoupin County line to the junction of Interstate 55 and State Route 16 (in Montgomery County); from this point southeast along the straight line to the junction of Interstate 55 and State Route 16; State Route 16 east-northeast to a point approximately 1 mile northeast of Irving; a straight line from this point to the northern Fayette County line; the northern Fayette, Effingham, and Cumberland County lines.

In Minnesota

Koochiching, St. Louis, Lake, Cook, Itasca, Norman, Mahnomen, Hubbard, Cass, Clay, Becker, Wadena, Crow Wing, Aitkin, Carlton, Wilkin, and Otter Tail Counties, except those export port locations within the State, which are serviced by GIPSA.

In North Dakota

Bounded on the North by the northern Steele County line from State Route 32 east; the northern Steele and Trail County lines east to the North Dakota State line; Bounded on the East by the eastern North Dakota State line; Bounded on the South by the southern North Dakota State line west to State Route 1; and Bounded on the West by State Route 1 north to Interstate 94; Interstate 94 east to the Soo Railroad line; the Soo Railroad line northwest to State Route 1; State Route 1 north to State Route 200; State Route 200 east to State Route 45; State Route 45 north to State Route 32; State Route 32 north.

Northern Plains

Pursuant to Section 79(f)(2) of the United States Grain Standards Act, the following geographic area, in the States of Minnesota and North Dakota, is assigned to this official agency.

In Minnesota

Kittson, Roseau, Lake of the Woods, Marshall, Beltrami, Polk, Pennington, Red Lake, and Clearwater Counties.

In North Dakota

Bounded on the North by the North Dakota State line; Bounded on the East by the North Dakota State line south to the southern Grand Forks County line; Bounded on the South by the southern Grand Forks and Nelson County lines west to the western Nelson County line; the western Nelson County line north to the southern Benson County line, the southern Benson and Pierce County lines west to State Route 3; and Bounded on the West by State Route 3 north to the southern Rolette County line; the southern Rolette County line west to the western Rolette County line to the north to the North Dakota State line.

Plainview

Pursuant to Section 79(f)(2) of the United States Grain Standards Act, the following geographic area, in the State of Texas, is assigned to this official agency.

In Texas

Bounded on the North by the northern Deaf Smith County line east to U.S. Route 385; U.S. Route 385 south to FM 1062; FM 1062 east to State Route 217; State Route 217 east to Prairie Dog Town Fork of the Red River; Prairie Dog Town Fork of the Red River southeast to the Briscoe County line; the northern Briscoe County line; the northern Hall County line east to U.S. Route 287; U.S. Route 287 southeast to the eastern Hall County line south to the northern Cottle County line; the northern Cottle County line east to the northern Hardeman County line; Bounded on the East by the eastern Hardeman and Fourd County lines to the northern Baylor and Archer County lines to the eastern Archer, Throckmorton, Shacklelford, and Callahan County lines; Bounded on the South by the southern Calahan, Taylor, Nolan, Mitchell, Howard, Martin, and Andrews County lines; and Bounded on the West by the western Andrews, Gaines, and Yoakum County lines; the northern Yoakum and Terry county lines; the western Lubbock County line; the western Hale County line north to FM 37; FM 37 west to U.S. Route 84; U.S. Route 84 northwest to FM 303; FM 303 north to U.S. Route 70; U.S. Route 70 west to the Lamb County line; the western and northern Lamb County lines; the western Castro County line; the southern Deaf Smith County line west to State Route 214; State Route 214 north to the northern Deaf Smith County line.

Opportunity for Designation

Interested persons or governmental agencies may apply for designation to provide official services in the geographic areas specified above under the provisions of section 79(f) of the USGSA and 7 CFR 800.196. Designation in the specified geographic areas is for the period beginning April 1, 2014 and ending March 31, 2017. To apply for designation or for more information, contact Eric J. Jabs at the address listed above or visit GIPSA's Web site at http://www.gipsa.usda.gov.

Request for Comments

We are publishing this notice to provide interested persons the opportunity to comment on the quality of services provided by Barton, Central Illinois, Central Iowa, Farwell SW, North Dakota, Northern Plains, and Plainview official agencies. In the designation process, we are particularly interested in receiving comments citing reasons and pertinent data supporting or objecting to the designation of the applicants. Submit all comments to Eric J. Jabs at the above address or at http://www.regulations.gov.

We consider applications, comments, and other available information when determining which applicants will be designated.

Authority: 7 U.S.C. 71-87k.

Larry Mitchell,
Administrator, Grain Inspection, Packers and Stockyards Administration.

[FR Doc. 2013-17449 Filed 7-19-13; 8:45 am]

BILLING CODE 3410-KD-P